ENVIRONMENTAL PROTECTION AGENCY

[EPA-HQ-OPP-2021-0015; FRL-10023-30]

Notice of Receipts of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before June 10, 2021.

ADDRESSES: Submit your comments, identified by docket identification (ID) number EPA-HQ-OPP-2021-0015, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

Submit written withdrawal request by mail to: Registration Division (7502P), Office of Pesticide Programs, Environmental Protection Agency, 1200 Pennsylvania Ave. NW, Washington, DC 20460-0001. ATTN: Christopher Green.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Christopher Green, Registration Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel certain pesticide products registered under FIFRA section 3 (7 U.S.C. 136a) or 24(c) (7 U.S.C. 136v(c)). These registrations are listed in sequence by registration number in Table 1 and Table 1A of this unit.

Unless the Agency determines that there are substantive comments that warrant further review of the requests or the registrants withdraw their requests, EPA intends to issue an order in the Federal Register canceling all the affected registrations.

Table 1—Registrations With Pending Requests for Cancellation
Registration No. | Company No. | Product name | Active ingredients
100-886 | 100 | Bicep Magnum | Atrazine & S-Metolachlor.
239-2661 | 239 | Homedefense Indoor & Outdoor Insect Killer 3 | Bifenthrin.
239-2687 | 239 | 0.3% Bifenthrin Liquid I&O Concentrate | Bifenthrin.
239-2698 | 239 | Home Defense Max Perimeter Insect Killer RTS | Bifenthrin.
239-2705 | 239 | Ortho Home Defense Max Outdoor Perimeter Insect Killer Ready-Spray II | Bifenthrin.
279-3056 | 279 | Talstar 2EC Insecticide/Miticide | Bifenthrin.
279-3086 | 279 | Talstar 9.8 WSB Insecticide/Miticide | Bifenthrin.
279-3087 | 279 | Talstar 9.9 WSB Insecticide/Miticide | Bifenthrin.
279-3121 | 279 | Biflex TCC Insecticide | Bifenthrin.
279-3122 | 279 | Biflex FTC Termiticide | Bifenthrin.
279-3152 | 279 | Biflex Residential Flowable Insecticide/Miticide | Bifenthrin.
279-3156 | 279 | Talstar GC Flowable Insecticide/Miticide | Bifenthrin.
279-3157 | 279 | Talstar ME Insecticide/Miticide | Bifenthrin.
279-3161 | 279 | Talstar RTU Insecticide/Miticide | Bifenthrin.
279-3162 | 279 | Talstar Lawn & Tree Flowable Insecticide/Miticide | Bifenthrin.
279-3163 | 279 | Talstar 0.2 G Lawn Granular Insecticide | Bifenthrin.
279-3166 | 279 | Talstar Fire Ant Destroyer | Bifenthrin.
279-3172 | 279 | Talstar 0.05 Lawn Granular Insecticide | Bifenthrin.
279-3173 | 279 | Talstar 0.1 Lawn Granular Insecticide | Bifenthrin.
279-3193 | 279 | Talstar GH Flowable Insecticide/Miticide | Bifenthrin.
279-3197 | 279 | Talstar 0.073 GU Granular Insecticide with Fertilizer | Bifenthrin.
279-3198 | 279 | Talstar 0.087 GL Granular Insecticide with Fertilizer | Bifenthrin.
279-3199 | 279 | Talstar 0.069 GU Granular Insecticide with Fertilizer | Bifenthrin.
279-3200 | 279 | Talstar 0.083 GU Granular Insecticide with Fertilizer | Bifenthrin.
279-3205 | 279 | Talstar FT Flowable Termiticide/Insecticide | Bifenthrin.
279-3212 | 279 | Talstar 0.069 GCGU Granular Insecticide | Bifenthrin.
279-3213 | 279 | Talstar 0.069 GUPT1 Granular Insecticide with 19-0-19 Fertilizer | Bifenthrin.
279-3224 | 279 | Talstar 0.073 GCGU Granular Insecticide with 19-0-19 Fertilizer | Bifenthrin.
279-3225 | 279 | Talstar 0.073 GCGUPT1 Granular Insecticide with 19-0-19 Fertilizer | Bifenthrin.
279-3226 | 279 | Talstar 0.073 GUPT1 Granular Insecticide with 19-0-19 Fertilizer | Bifenthrin.
279-3235 | 279 | Talstar 0.057 GURR Granular Insecticide with 19-0-19 Fertilizer | Bifenthrin.
279-3239 | 279 | Talstar 0.03% Granular Insecticide with 18-0-12 Fertilizer | Bifenthrin.
279-3252 | 279 | FMC 01-0004 Insecticide | Bifenthrin.
279-3253 | 279 | FMC 01-0004-2 Insecticide | Bifenthrin.
279-3264 | 279 | F1785 GH 50 WG Insecticide | Flonicamid.
279-3277 | 279 | F1785 N 50 WG Insecticide | Flonicamid.
279-3311 | 279 | Bifenthrin 8% ME Termiticide/Insecticide | Bifenthrin.
279-3314 | 279 | F5997 ME Insecticide/Miticide | Pyriproxyfen & Bifenthrin.
279-3333 | 279 | F6305 WDG Insecticide | Flonicamid & Zeta-Cypermethrin.
279-3335 | 279 | F6320 Granular Insecticide | Bifenthrin.
279-3364 | 279 | F8028-1 Aerosol | Bifenthrin.
279-3367 | 279 | F6288 SC Liquid Insecticide | Bifenthrin & Imidacloprid.
279-9553 | 279 | Intruder Residual with Cyfluthrin | Piperonyl butoxide; Pyrethrins & Cyfluthrin.
279-9604 | 279 | Finesse Grass & Broadleaf Herbicide | Flucarbazone-sodium & Chlorsulfuron.
352-778 | 352 | Dupont Require Q Herbicide | Dicamba & Rimsulfuron.
352-831 | 352 | Dupont DPX-B2856 4.5 Herbicide | Glycine, N-(phosphonomethyl)- potassium salt & Glyphosate-isopropylammonium.
400-600 | 400 | Flupro-EC | Flumetralin.
432-1407 | 432 | Allectus G Insecticide | Bifenthrin & Imidacloprid.
432-1416 | 432 | Allectus GC Granular Insecticide | Bifenthrin & Imidacloprid.
432-1418 | 432 | Allectus 0.18 G Plus Turf Fertilizer Insecticide | Bifenthrin & Imidacloprid.
432-1419 | 432 | Allectus 0.15 G Plus Turf Fertilizer Insecticide | Bifenthrin & Imidacloprid.
432-1421 | 432 | Allectus GC SC Insecticide | Bifenthrin & Imidacloprid.
432-1426 | 432 | Allectus 0.18 GC Plus Turf Fertilizer Insecticide | Bifenthrin & Imidacloprid.
432-1428 | 432 | Allectus 0.15 GC Plus Turf Fertilizer Insecticide | Bifenthrin & Imidacloprid.
499-529 | 499 | TC-251A | Permethrin.
499-551 | 499 | TC 251C | Permethrin.
2693-60 | 2693 | Fiberglass Bottom Kote 449 Red | Cuprous oxide.
3862-158 | 3862 | Weedzout | Bromacil, lithium salt.
4959-23 | 4959 | Iosan | Nonylphenoxypolyethoxyethanol—iodine complex & Phosphoric acid.
8329-73 | 8329 | ULV Mosquito Master 2+6 | Permethrin & Chlorpyrifos.
8329-115 | 8329 | Phoenix | Prallethrin; Phenothrin & Piperonyl butoxide.
9688-227 | 9688 | Chemsico Herbicide Granules AN | Atrazine.
9688-274 | 9688 | Chemsico Granules LAH | lambda-Cyhalothrin & Atrazine.
10324-89 | 10324 | Maquat MC5814-80% | Alkyl* dimethyl benzyl ammonium chloride *(58%C14, 28%C16, 14%C12).
10324-139 | 10324 | Maquat TC76-40% | Dialkyl* methyl benzyl ammonium chloride *(60% C14, 30% C16, 5% C18, 5% C12) & Alkyl* dimethyl benzyl ammonium chloride *(60%C14, 30%C16, 5%C18, 5%C12).
10324-140 | 10324 | Maquat MQ2525M-CPV | Alkyl* dimethyl benzyl ammonium chloride *(60%C14, 30%C16, 5%C18, 5%C12) & Alkyl* dimethyl ethylbenzyl ammonium chloride *(68%C12, 32%C14).
10324-149 | 10324 | Maquat TC76-80% | Dialkyl* methyl benzyl ammonium chloride *(60% C14, 30% C16, 5% C18, 5% C12) & Alkyl* dimethyl benzyl ammonium chloride *(60%C14, 30%C16, 5%C18, 5%C12).
10324-187 | 10324 | Maquat-1010N-10% | 1-Decanaminium, N-decyl-N,N-dimethyl-, chloride.
26883-10 | 26883 | High Performance Chem Copp | Cuprous oxide.
34704-920 | 34704 | Quinclorac 75DF Herbicide | Quinclorac.
42750-41 | 42750 | Dicambazine | Atrazine & Dicamba, potassium salt.
42750-44 | 42750 | Atrazine 4L | Atrazine.
42750-45 | 42750 | Weed Pro Atrazine 4L Herbicide | Atrazine.
42750-50 | 42750 | Brox-AT Herbicide | Bromoxynil octanoate & Atrazine.
42750-53 | 42750 | Albaugh Atrazine 90 DF | Atrazine.
45168-1 | 45168 | VC 17M Antifouling | Copper as elemental.
55467-6 | 55467 | Volley ATZ Lite Tenkoz Herbicide | Atrazine & Acetochlor.
55467-7 | 55467 | Volley ATZ Tenkoz Herbicide | Atrazine & Acetochlor.
55467-8 | 55467 | Volley Tenkoz Herbicide | Acetochlor.
59639-106 | 59639 | Atrazine 90 DF Herbicide | Atrazine.
66222-163 | 66222 | N-Lock Nitrogen Stabilizer | Nitrapyrin.
70506-214 | 70506 | Super Tin 80WP | Fentin hydroxide.
70506-228 | 70506 | Trike | Triclopyr, triethylamine salt.
70506-292 | 70506 | UPI Captan 50 WP | Captan.
70506-293 | 70506 | UPI Captan 80 WDG | Captan.
71368-119 | 71368 | Nufarm Leopard Herbicide | Glufosinate.
84009-33 | 84009 | RM43 RTU | Imazapyr, isopropylamine salt & Glyphosate-isopropylammonium.
85063-1 | 85063 | Ethylene Release Canister ERC | Ethylene.
93923-1 | 93923 | Dicamba Technical | Dicamba.
93923-2 | 93923 | Dicamba Diglycolamine Salt SL | Dicamba, diglycolamine salt.
93923-3 | 93923 | Dicamba Dimethylamine Salt SL | Dicamba, dimethylamine salt.
DE-120005 | 69969 | Avipel (Dry) Corn Seed Treatment | Anthraquinone.
ID-150010 | 70506 | Hydrothol 191 Aquatic Algicide and Herbicide | Endothall, mono(N,N,-dimethyl alkyl amine) salt.
ID-180008 | 69969 | Avipel Hopper Box (Dry) Corn Seed Treatment | Anthraquinone.
MN-120002 | 69969 | Avipel (Dry) Corn Seed Treatment | Anthraquinone.
OK-100003 | 279 | Transport Termiticide-Insecticide | Bifenthrin & Acetamiprid.
SD-130004 | 69969 | Avipel (Dry) Corn Seed Treatment | Anthraquinone.
SD-150007 | 69969 | Avipel (Dry) Corn Seed Treatment | Anthraquinone.
WI-130003 | 69969 | Avipel (Dry) Corn Seed Treatment | Anthraquinone.
WI-150005 | 69969 | Avipel (Dry) Corn Seed Treatment | Anthraquinone.
WY-140002 | 69969 | Avipel (Dry) Corn Seed Treatment | Anthraquinone.

Table 1A—Registration With Pending Request for Cancellation
Registration No. | Company No. | Product name | Active ingredients
1021-2600 | 1021 | Veratran D | Sabadilla alkaloids.

The registrant for the pesticide product registration listed in Table 1A has requested to the Agency via letter that the cancellation becomes effective September 30, 2022.

Table 2 of this unit includes the names and addresses of record for all registrants of the products in Table 1 and Table 1A of this unit, in sequence by EPA company number. This number corresponds to the first part of the EPA registration numbers of the products listed in this unit.

Table 2—Registrants Requesting Voluntary Cancellation
EPA company No. | Company name and address
100 | Syngenta Crop Protection, LLC, 410 Swing Road, P.O. Box 18300, Greensboro, NC 27419-8300.
239 | The Scotts Company, d/b/a The Ortho Group, 14111 Scottslawn Road, Marysville, OH 43041.
279 | FMC Corporation, 2929 Walnut Street, Philadelphia, PA 19104.
352 | E.I. Du Pont De Nemours and Company, 9330 Zionsville Road, Indianapolis, IN 46268.
400 | MacDermid Agricultural Solutions, Inc., Agent Name: UPL NA, Inc., 630 Freedom Business Center, Suite 402, King of Prussia, PA 19406.
432 | Bayer Environmental Science, A Division of Bayer CropScience, LP, 700 Chesterfield Parkway West, Chesterfield, MO 63017.
499 | BASF Corporation, 26 Davis Drive, P.O. Box 13528, Research Triangle Park, NC 27709-3528.
1021 | McLaughlin Gormley King Company, d/b/a MGK, 7325 Aspen Lane N, Minneapolis, MN 55428.
2693 | International Paint, LLC, 6001 Antoine Drive, Houston, TX 77091.
3862 | ABC Compounding Co., Inc., P.O. Box 16247, Atlanta, GA 30321.
4959 | West Agro, Inc., 11100 N Congress Ave., Kansas City, MO 64153.
8329 | Clarke Mosquito Control Products, Inc., 675 Sidwell Court, St. Charles, IL 60174.
9688 | Chemsico, A Division of United Industries Corp., P.O. Box 142642, St. Louis, MO 63114-0642.
10324 | Mason Chemical Company, 9075 Centre Pointe Dr., Suite 400, West Chester, OH 45069.
26883 | American Chemet Corporation, Agent Name: TSG Consulting, 1150 18th Street NW, Suite 1000, Washington, DC 20036.
34704 | Loveland Products, Inc., P.O. Box 1286, Greeley, CO 80632-1286.
42750 | Albaugh, LLC, 1525 NE 36th Street, Ankeny, IA 50021.
45168 | Extensor AB, Agent Name: International Paint, LLC, 6001 Antoine Drive, Houston, TX 77091.
55467 | Tenkoz, Inc., 1725 Windward Concourse, Suite 410, Alpharetta, GA 30005.
59639 | Valent U.S.A. LLC, 4600 Norris Canyon Road, P.O. Box 5075, San Ramon, CA 94583.
66222 | Makhteshim Agan of North America, Inc., d/b/a Adama, 3120 Highwoods Blvd., Suite 100, Raleigh, NC 27604.
69969 | Arkion Life Sciences, LLC, Agent Name: Landis International, Inc., 3815 Madison Highway, P.O. Box 5126, Valdosta, GA 31603-5126.
70506 | UPL NA, Inc., 630 Freedom Business Center, Suite 402, King of Prussia, PA 19406.
71368 | NuFarm, Inc., Agent Name: NuFarm Americas, Inc., 4020 Aerial Center Pkwy., Suite 101, Morrisville, NC 27560.
84009 | Ragan and Massey, Inc., Agent Name: Pyxis Regulatory Consulting, Inc., 4110 136th St. Ct. NW, Gig Harbor, WA 98332.
85063 | Balchem Corporation, 52 Sunrise Park Road, New Hampton, NY 10958.
93923 | Hy-Green, LLC, Agent Name: Wagner Regulatory Associates, Inc., P.O. Box 640, Hockessin, DE 19707.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II have requested that EPA waive the 180-day comment period. Accordingly, EPA will provide a 30-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. In any order issued in response to these requests for cancellation of product registrations EPA proposes to include the following provisions for the treatment of any existing stocks of the products listed in Table 1 of Unit II.

A. For Products 400-600, 10324-89, 10324-139, 10324-140, 10324-149, 10324-187, 34704-920, 70506-214, 70506-292 & 70506-293

For products 400-600, 10324-89, 10324-139, 10324-140, 10324-149, 10324-187, 34704-920, 70506-214, 70506-292 & 70506-293, the registrants have requested 18-months to sell existing stocks. Because the Agency has identified no significant potential risk concerns associated with these pesticide products, upon cancellation of these product cancellations, identified in Table 1of Unit II, EPA anticipates allowing registrants to sell and distribute existing stocks of these voluntarily canceled products for 18-months after the effective date of the publication of the Cancellation Order in the Federal Register. Thereafter, registrants will be prohibited from selling or distributing these products identified in Table 1 of Unit II, except for export consistent with FIFRA section 17 (7 U.S.C. 136o) or for proper disposal.

B. For Product 1021-2600

For product 1021-2600, the registrant has requested that the cancellation becomes effective September 30, 2022. Because the Agency has identified no significant potential risk concerns associated with this pesticide product, upon cancellation of this product cancellation, identified in Table 1A of Unit II, EPA anticipates allowing registrants to sell and distribute existing stocks of these voluntarily canceled products for 1 year after the effective date of the product cancellation, which will be September 30, 2023. Thereafter, registrants will be prohibited from selling or distributing these products identified in Table 1A of Unit II, except for export consistent with FIFRA section 17 (7 U.S.C. 136o) or for proper disposal.

Because the Agency has identified no significant potential risk concerns associated with all the other pesticide products, identified in Table 1 of Unit II, upon cancellation of these product cancellations, EPA anticipates allowing registrants to sell and distribute existing stocks of these voluntarily canceled products for 1 year after publication of the Cancellation Order in the Federal Register. Thereafter, registrants will be prohibited from selling or distributing the pesticides identified in Table 1 of Unit II, except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: May 4, 2021.
Marietta Echeverria,
Acting Director, Registration Division, Office of Pesticide Programs.

[FR Doc. 2021-09938 Filed 5-10-21; 8:45 am]

BILLING CODE 6560-50-P